DEPARTMENT OF AGRICULTURE

Office of the Secretary

Notice of Request for Expression of Interest for Potential Sites for Headquarters Office Locations

AGENCY: Office of the Secretary, USDA.

ACTION: Notice.

SUMMARY: The U.S. Department of Agriculture (USDA) is exploring potential sites for a proposed new headquarters location for the National Institute of Food and Agriculture (NIFA) and the Economic Research Service (ERS). The need for a proposed NIFA facility would be approximately 90,000 square feet to house approximately 360 employees. The need for a proposed ERS facility would be up to 70,000 square feet to house up to 260 employees. Appropriations will dictate the ultimate size of the selection. USDA is requesting Expressions of Interest from State and Local governments, industry, academia, interested parties and organizations for potential locations that would accommodate the construction and/or lease and operation of a NIFA and/or ERS headquarters facility. USDA is interested in exploring options to house the headquarters of NIFA and ERS jointly or in separate locations.

DATES: Interested parties wishing to make an Expression of Interest should do so in writing by September 14, 2018.

ADDRESSES: Interested parties are invited to submit comments regarding this notice. All submissions must refer to “Expression of Interest” to ensure proper delivery.

• Electronic Submission of Expression of Interest. Interested persons may submit information electronically to the following email address relocation@usda.gov.

• Submission of Comments by Mail, Hand delivery, or Courier. Paper, disk, or CD-ROM submissions should be submitted to Donald K. Bice, Deputy Assistant Secretary, Office of the Assistant Secretary for Administration, USDA, Jamie L. Whitten Building, Room 240-W, 1400 Independence Ave. SW, Washington, DC 20250.

FOR FURTHER INFORMATION CONTACT: Donald K. Bice, Telephone Number: (202) 720-3291.

SUPPLEMENTARY INFORMATION: NIFA's mission is to invest in and advance agricultural research, education, and extension to solve societal challenges. In collaboration with the Land-Grant Universities and other partners, NIFA supports the future of agriculture and the nation's well-being through its forward-thinking investments in critical science, education, and engagement efforts.

The mission of ERS is to inform and enhance public and private decision making on a broad range of economic and policy issues related to agriculture, food, natural resources, and rural America. The Agency's mission is to anticipate issues that are on the horizon, and to conduct sound, peer-reviewed economic research. ERS is also a primary source of statistical indicators that, among other things, gauge the health of the farm sector (including farm income estimates and projections), assess the current and expected performance of the agricultural sector (including trade), and provide measures of food security here and abroad. Most of the Agency's research is conducted by a highly trained staff of economists and social scientists through an intramural program of research, market outlook, and analysis.

The current headquarters facility for NIFA is in General Services Administration leased space in Washington DC That lease is expiring and the USDA and NIFA are interested in potential new sites for a headquarters facility. The current headquarters facility for ERS is in General Services Administration leased space in Washington DC This inquiry is intended to continue the implementation of Secretary Perdue's goal of ensuring USDA programs are delivered efficiently, effectively, and with integrity and a focus on customer service. With the expiration of the current lease for the NIFA headquarters facility and the ability of ERS to vacate its existing lease there is an opportunity for the agencies to be closer to its customers and facilitate economic development in Rural America.

Request for Expression of Interest: USDA requests Expressions of Interest from State and Local governments, industry, academia, interested parties and organizations to identify potential sites or locations for the NIFA and ERS headquarters facility. A consortium could be an appropriate respondent. All viable options will be evaluated for the location of the facility (i.e., Federal government property, Federal research property, land deeded to the government, long-term lease, commercial site, etc.). USDA is interested in exploring options to house the headquarters of NIFA and ERS jointly or in separate locations.

This request for expression of interest, published in today's Federal Register, is the first step in the process to consider site options. USDA will evaluate each EOI submission using the four criteria in no particular order (transportation logistics, workforce, community/quality of life, and capital and operating costs) to determine if it should be further evaluated as part of the location selection process.

Logistics. Personnel travel and logistics needs are critically important. This includes being located within a reasonable distance of a commercial primary airport and the transportation infrastructure to have commuting options for employees.

Workforce. Locating NIFA and ERS headquarters in a community includes a significant opportunity to improve economic conditions and create employment opportunities. It is important that the potential site be in close proximity to a critical mass of intellectual capacity and potential employees to continue the high value and productive work of NIFA and ERS.

Community/Quality of Life. One of the most important resources of any USDA organization is its employees. Though the Washington DC area has many positive attributes, it routinely ranks as having some of the longest commute times and one of the highest costs of living in the Nation. USDA wants to locate the NIFA and ERS headquarters in a community where our employees will enjoy living, recreational opportunities, educational opportunities, and an overall high quality of life.

Capital and Operating Costs. The need to invest upfront capital costs and ongoing operational costs will be a factor in the site selection process. Lower costs and the potential of incentives to offset costs will be considered.

Information Technology infrastructure. While there is the need consider upfront investments in capital costs and ongoing operational costs in the site selection process; it is also important for the ERS location to offer enhanced IT security to meet the full requirements of handling and properly protecting confidential information at the new location. ERS, being a Federal statistical agency, will be required to maintain functional and physical separation of IT resources in order to meet the data protection requirements described in the Confidential Information Protection and Statistical Efficiency Act (44 U.S.C. 101) and in OMB's related implementation guidance. Moreover, ERS is an integral agency for the Office of the Chief Economist Office's World Agricultural Outlook Board activities. Therefore, the new location will be required to offer secure and confidential connectivity to the USDA's South Building to facilitate monthly teleconferences with the Interagency Commodity Estimates Committee meetings (https://www.usda.gov/oce/commodity/wasde/prepared.htm). The ability of the new location to offer those capabilities will be viewed as a prerequisite condition for a successful bid.

Expression of Interest Format: The length of the Expression of Interest should be no more than 5 pages using 12-point font. While the responder may determine how best to use the 5 pages, we recommend: SECTION 1—Summary; and SECTION 2 through SECTION 5 a description of location with specific reference to the 4 items requested by USDA below.

1. A description of your consortium/organization, and its capabilities to support the location of the NIFA and ERS headquarters at its recommended site (SECTION 2).

2. A description of how the potential site addressed the four site criteria categories (transportation logistics, workforce, community/quality of life, and capital and operating costs) described above (SECTION 3).

3. A map showing the location of the potential site, nearby (within 10 miles) political boundaries, demographics and characteristics of surrounding communities (within 10 miles) (SECTION 4).

4. A site description including ownership, total site acreage and acreage available for development; existing physical infrastructure including number of structures, their size, vintage and current use; current activities; on-site tenants (if applicable); and estimated costs as tenant (SECTION 5).

Proprietary Information: If the Expression of Interest contains information that the submitter believes is privileged or confidential, the appropriate portions of the submission should be marked “Proprietary Information” and will not be publicly released except as required by law. This restriction does not limit the Government's or its contractors' or agents' right to use data obtained without restriction from any source, including the respondent.

USDA is under no obligation to pay for any costs associated with the preparation or submission of Expressions of Interest in response to this notice. USDA reserves the right to respond or not respond to any portion, all, or none of the Expressions of Interest submitted in response to this Notice. Responders whose submissions are deemed worthy of further consideration given the criteria expressed herein may be asked to provide additional information. USDA's further consideration of certain Responders' Expressions of Interest does not obligate USDA to provide funds to such Responders or to enter into contractual relationships with such Responders.

Dated: August 9, 2018.
Donald K. Bice,
Deputy Assistant Secretary for Administration.

[FR Doc. 2018-17555 Filed 8-14-18; 8:45 am]

BILLING CODE 3410-90-P